DEPARTMENT OF DEFENSE

Office of the Secretary

Meeting of the Historical Records Declassification Advisory Panel of the Department of Defense Historical Advisory Committee

ACTION: Notice of partially closed meeting.

SUMMARY: Notice is hereby given of the forthcoming meeting of the Historical Records Declassification Advisory Panel. The purpose of this meeting is to discuss recommendations to the Department of Defense on topical areas of interest that, from a historical perspective, would be of the greatest benefit if declassified. This is the first session held in 2000. The transcripts of the open to the public session will be published on the HRDAP Webpage as they become available. The OSD Historian will chair this meeting.

DATES: Friday, March 24, 2000; 9:00 a.m.-3:00 p.m.

TIME: The March 24th morning HRDAP session will be open to the public from 9:00 a.m. until 11:45 a.m. The March 24th afternoon HRDAP session will be closed to the public from 1:00 p.m. to 3:00 p.m.

ADDRESSES: The National Archives Building, Room 505, 7th and Pennsylvania Avenue, NW, Washington, DC 20408.

FOR FURTHER INFORMATION CONTACT: Mr. Jeff Ross, Room 1D760, Office of the Assistant Secretary of Defense (Command, Control, Communications and Intelligence), 6000 Defense Pentagon, Washington, DC 20301-6000, telephone (703) 614-5995.

Dated: March 3, 2000.
L.M. Bynum,
Alternate OSD Federal Register Liaison, Department of Defense.

[FR Doc. 00-5901 Filed 3-9-00; 8:45 am]

BILLING CODE 5000-10-M